DEPARTMENT OF THE INTERIOR

Bureau of Indian Affairs

[212A2100DD/AAKC001030/A0A501010.999900253G]

Indian Gaming; Approval by Operation of Law of Tribal-State Class III Gaming Compact in the State of Florida

AGENCY: Bureau of Indian Affairs, Interior.

ACTION: Notice.

SUMMARY: This notice publishes the approval by operation law of the Compact Between the Seminole Tribe of Florida (Tribe) and the State of Florida (State).

DATES: The compacts take effect on August 11, 2021.

FOR FURTHER INFORMATION CONTACT: Ms. Paula L. Hart, Director, Office of Indian Gaming, Mailstop 3543, 1849 C Street NW, Washington, DC 20240, telephone (202) 219-4066, paula.hart@bia.gov.

SUPPLEMENTARY INFORMATION: The Indian Gaming Regulatory Act of 1988, 25 U.S.C. 2701 et seq., (IGRA) provides the Secretary of the Interior (Secretary) with 45 days to review and approve or disapprove a Tribal-State compact governing the conduct of class III gaming activity on the Tribe's Indian lands. 25 U.S.C. 2710(d)(8). If the Secretary does not approve or disapprove a Tribal-State compact within the 45 days, IGRA provides that the Tribal-State compact is considered to have been approved by the Secretary but only to the extent the compact is consistent with IGRA. 25 U.S.C. 2710(d)(8)(C). The IGRA also requires the Secretary of the Interior to publish in the Federal Register notice of approved Tribal-State compacts for the purpose of engaging in Class III gaming activities on Indian lands. 25 U.S.C. 2710(d)(8(D). The Department's regulations at 25 CFR 293.4, require all compacts and amendments to be reviewed and approved by the Secretary prior to taking effect. The Secretary took no action on the Compact between the Tribe and the State. Therefore, the Compact is considered to have been approved, but only to the extent it is consistent with IGRA. See 25 U.S.C. 2710(d)(8)(C).

Bryan Newland,
Principal Deputy Assistant Secretary—Indian Affairs.

[FR Doc. 2021-17055 Filed 8-10-21; 8:45 am]

BILLING CODE 4337-15-P